DEPARTMENT OF THE INTERIOR

Minerals Management Service

Agency Information Collection Activities: Proposed Collection; Comment Request

AGENCY: Minerals Management Service (MMS), Interior.

ACTION: Notice of extension of a currently approved information collection (OMB Control Number 1010-0078).

SUMMARY: As part of its continuing effort to reduce paperwork and respondent burden, MMS invites the public and other Federal agencies to comment on a proposal to extend the currently approved collection of information discussed below. We intend to submit this collection of information to the Office of Management and Budget (OMB) for approval. The Paperwork Reduction Act of 1995 (PRA) provides that an agency may not conduct or sponsor, and a person is not required to respond to, a collection of information unless it displays a currently valid OMB control number.

DATES: Submit written comments by April 24, 2000.

ADDRESSES: Mail or hand carry comments to the Department of the Interior; Minerals Management Service; Attention: Rules Processing Team; Mail Stop 4024; 381 Elden Street, Herndon, VA 20170-4817. Our practice is to make comments, including names and home addresses of respondents, available for public review during regular business hours. Individual respondents may request that we withhold their home address from the rulemaking record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR 250, Subpart O, Training.

OMB Control Number: 1010-0078.

Abstract: The Outer Continental Shelf (OCS) Lands Act, as amended, 43 U.S.C. 1334(e), gives the Secretary of the Interior (Secretary) the responsibility to preserve, protect, and develop oil and gas resources in the OCS in a manner which is consistent with the need to make such resources available to meet the Nation's energy needs as rapidly as possible; balance orderly energy resources development with protection of human, marine, and coastal environments; ensure the public a fair and equitable return on resources of the OCS; and preserve and maintain free enterprise competition. Section 1332(6) of the OCS Lands Act (43 U.S.C. 1332) requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to the Minerals Management Service (MMS). This authority and responsibility are among those delegated to MMS. To carry out these responsibilities, MMS issues regulations governing oil and gas or sulphur operations in the OCS. In addition, MMS issues Notices to Lessees and Operators to supplement regulations to provide guidance and clarification.

The MMS uses the information collected under subpart O to ensure that certain workers in the OCS are properly trained in the use of equipment and procedures in drilling, well-completion, well-workover, and well-servicing well control operations and production safety system operations in order to avoid hazards inherent in those operations. This information is necessary to verify personnel training compliance with the requirements. Specifically, MMS uses the information to:

• Evaluate new programs and curriculum changes for technical accuracy and ensure that the programs incorporate appropriate instruction, simulation, and hands-on training activities.

• Review attendance records to verify that a student has attended the entire course before issuance of a certificate.

• Schedule MMS onsite evaluations and audits of training organizations.

• Ensure that personnel are trained in order to maintain a state of preparedness essential for safe operations.

We will protect proprietary information submitted according to the Freedom of Information Act (5 U.S.C. 552) and its implementing regulations (43 CFR 2) and 30 CFR 250.196. We will protect personal information such as social security numbers according to the Privacy Act. No items of a sensitive nature are collected. Responses are mandatory.

Frequency: Primarily on occasion or annual.

Estimated Number and Description of Respondents: Approximately 130 Federal OCS oil, gas, and sulphur lessees and 55 training schools.

Estimated Annual Reporting and Recordkeeping “Hour” Burden: The currently approved burden for this collection is 2,961 hours. This burden consists of various requirements, but the major burdens are:

• 200 hours to develop and submit alternative training program.

• 100 hours to apply for approval of new training program accreditation.

• 53 hours to renew training program accreditation.

• 15 hours to submit annual course schedule and changes.

Estimated Annual Recordkeeping “Non-Hour Cost” Burden: We have identified no non-hour cost burdens for this collection.

Comments

We will summarize written responses to this notice and address them in our submission for OMB approval. As a result of your comments and consultations with a sample of respondents, we will make any necessary adjustments to the burden in our submission to OMB. In calculating the burden, we assumed that respondents perform many of the requirements in the normal course of their activities. We consider these to be usual and customary and took that into account in estimating the burden.

(1) We specifically solicit your comments on the following questions:

(a) Is the proposed collection of information necessary for us to properly perform our functions, and will it be useful?

(b) Are the estimates of the burden hours of the proposed collection reasonable?

(c) Do you have any suggestions that would enhance the quality, clarity, or usefulness of the information to be collected?

(d) Is there a way to minimize the information collection burden on respondents, including through the use of appropriate automated electronic, mechanical, or other forms of information technology?

(2) In addition, the PRA requires agencies to estimate the total annual reporting “non-hour cost” burden to respondents or recordkeepers resulting from the collection of information. We need to know if you have costs associated with the collection of this information for either total capital and startup cost components or annual operation, maintenance, and purchase of service components. Your estimates should consider the costs to generate, maintain, and disclose or provide the information. You should describe the methods you use to estimate major cost factors, including system and technology acquisition, expected useful life of capital equipment, discount rate(s), and the period over which you incur costs. Capital and startup costs include, among other items, computers and software you purchase to prepare for collecting information; monitoring, sampling, drilling, and testing equipment; and record storage facilities. Generally, your estimates should not include equipment or services purchased: (i) before October 1, 1995; (ii) to comply with requirements not associated with the information collection; (iii) for reasons other than to provide information or keep records for the Government; or (iv) as part of customary and usual business or private practices.

MMS Information Collection Clearance Officer: Jo Ann Lauterbach, (202) 208-7744.

Dated: February 16, 2000.
E. P. Danenberger,
Chief, Engineering and Operations Division.

[FR Doc. 00-4177 Filed 2-22-00; 8:45 am]

BILLING CODE 4310-MR-U